FEDERAL TRADE COMMISSION

[File No. 232 3092]

Workado, LLC, f/k/a Content at Scale AI; Analysis of Proposed Consent Order To Aid Public Comment

AGENCY: Federal Trade Commission.

ACTION: Proposed consent agreement; request for comment.

SUMMARY: The consent agreement in this matter settles alleged violations of Federal law prohibiting unfair or deceptive acts or practices. The attached Analysis of Proposed Consent Order to Aid Public Comment describes both the allegations in the complaint and the terms of the consent order—embodied in the consent agreement—that would settle these allegations.

DATES: Comments must be received on or before June 2, 2025.

ADDRESSES: Interested parties may file comments online or on paper by following the instructions in the Request for Comment part of the SUPPLEMENTARY INFORMATION section below. Please write “Workado; File No. 232 3092” on your comment and file your comment online at https://www.regulations.gov by following the instructions on the web-based form. If you prefer to file your comment on paper, please mail your comment to: Federal Trade Commission, Office of the Secretary, 600 Pennsylvania Ave. NW, Mail Stop H-144 (Annex D), Washington, DC 20580.

FOR FURTHER INFORMATION CONTACT: Ben Halpern-Meekin (206-220-0000) and Joe Lipinsky (206-220-4437), Attorneys, Northwest Region, Bureau of Consumer Protection, Federal Trade Commission, 400 7th St. SW, Washington, DC 20024.

SUPPLEMENTARY INFORMATION: Pursuant to section 6(f) of the Federal Trade Commission Act, 15 U.S.C. 46(f), and FTC Rule § 2.34, 16 CFR 2.34, notice is hereby given that the above-captioned consent agreement containing a consent order to cease and desist, having been filed with and accepted, subject to final approval, by the Commission, has been placed on the public record for a period of 30 days. The following Analysis to Aid Public Comment describes the terms of the consent agreement and the allegations in the complaint. An electronic copy of the full text of the consent agreement package can be obtained at https://www.ftc.gov/news-events/commission-actions.

You can file a comment online or on paper. For the Commission to consider your comment, we must receive it on or before June 2, 2025. Write “Workado; File No. 232 3092” on your comment. Your comment—including your name and your State—will be placed on the public record of this proceeding, including, to the extent practicable, on the https://www.regulations.gov website.

Because of heightened security screening, postal mail addressed to the Commission will be subject to delay. We strongly encourage you to submit your comments online through the https://www.regulations.gov website. If you prefer to file your comment on paper, write “Workado; File No. 232 3092” on your comment and on the envelope, and send it via overnight service to: Federal Trade Commission, Office of the Secretary, 600 Pennsylvania Avenue NW, Mail Stop H-144 (Annex D), Washington, DC 20580.

Because your comment will be placed on the publicly accessible website at https://www.regulations.gov, you are solely responsible for making sure your comment does not include any sensitive or confidential information. In particular, your comment should not include sensitive personal information, such as your or anyone else's Social Security number; date of birth; driver's license number or other State identification number, or foreign country equivalent; passport number; financial account number; or credit or debit card number. You are also solely responsible for making sure your comment does not include sensitive health information, such as medical records or other individually identifiable health information. In addition, your comment should not include any “trade secret or any commercial or financial information which . . . is privileged or confidential”—as provided by section 6(f) of the FTC Act, 15 U.S.C. 46(f), and FTC Rule § 4.10(a)(2), 16 CFR 4.10(a)(2)—including competitively sensitive information such as costs, sales statistics, inventories, formulas, patterns, devices, manufacturing processes, or customer names.

Comments containing material for which confidential treatment is requested must be filed in paper form, must be clearly labeled “Confidential,” and must comply with FTC Rule § 4.9(c). In particular, the written request for confidential treatment that accompanies the comment must include the factual and legal basis for the request and must identify the specific portions of the comment to be withheld from the public record. See FTC Rule § 4.9(c). Your comment will be kept confidential only if the General Counsel grants your request in accordance with the law and the public interest. Once your comment has been posted on the https://www.regulations.gov website—as legally required by FTC Rule § 4.9(b)—we cannot redact or remove your comment from that website, unless you submit a confidentiality request that meets the requirements for such treatment under FTC Rule § 4.9(c), and the General Counsel grants that request.

Visit the FTC website at https://www.ftc.gov to read this document and the news release describing the proposed settlement. The FTC Act and other laws the Commission administers permit the collection of public comments to consider and use in this proceeding, as appropriate. The Commission will consider all timely and responsive public comments it receives on or before June 2, 2025. For information on the Commission's privacy policy, including routine uses permitted by the Privacy Act, see https://www.ftc.gov/site-information/privacy-policy.

Analysis of Proposed Consent Order To Aid Public Comment

The Federal Trade Commission (“Commission”) has accepted, subject to final approval, an agreement containing a consent order from Workado, LLC, f/k/a Content at Scale AI (“Workado”). The proposed consent order (“proposed order”) has been placed on the public record for 30 days for receipt of public comments by interested persons. Comments received during this period will become part of the public record. After thirty days, the Commission will again review the agreement and the comments received and will decide whether it should withdraw from the agreement and take appropriate action or make final the agreement's proposed order.

In response to public concerns about the difficulty identifying content created through the use of artificial intelligence (AI), the market has responded with AI detection products. Workado markets and offers for sale an AI text detector. Workado claimed its AI text detector could classify text as human-created or AI-generated with over 98 percent accuracy across all types of text from generative AI programs, like ChatGPT, Claude, and GPT-4.

The complaint alleges Workado violated section 5(a) of the FTC Act because its accuracy claim was false or misleading or was not substantiated at the time the representation was made. The complaint specifically alleges Workado lacked competent and reliable evidence to show its AI detector could perform with 98 percent accuracy across many types of text generated by a wide range of generative AI programs. The complaint also alleges the AI model powering Workado's detector was trained or fine-tuned to accurately classify only academic content, rather than the types of marketing content submitted by Workado users, making it incapable of performing with 98 percent accuracy for its intended purpose. Further, testing shows the AI model powering Workado's detector could correctly classify non-academic AI-generated text with around 53 percent accuracy.

The proposed order contains provisions designed to prevent Workado from engaging in these and similar acts and practices in the future. The proposed order covers products that detect or purport to detect content, including text, images, and video, generated or altered by AI in any way.

Provision I prohibits Workado from making any representation about the efficacy of any product covered by the proposed order unless that representation is not misleading and Workado has competent and reliable evidence that is sufficient in quantity, quality, and timeliness to support its claim.

Provision II requires Workado to retain any competent and reliable evidence, including competent and reliable scientific evidence, upon which it relies to substantiate any claim about the efficacy of any product covered by the proposed order. Provision III requires Workado to post, not later than one day after making covered claims, on any of its web pages concerning a product covered by this proposed order, a statement describing its substantiating evidence for claims about that product. Provision IV requires Workado to email eligible customers with notice of the consent order and the settlement.

Provisions V through IX relate to notice and compliance. Provision V requires that Workado acknowledge receipt of the order; distribute the order to principals, officers, and certain employees and agents; and obtain signed acknowledgements from them. Provision VI requires Workado to submit compliance reports to the Commission one year after the order's issuance, for three years thereafter, and when certain events occur. Provision VII requires Workado to create certain records for 10 years and retain them for five years thereafter. Provision VIII requires Workado to provide information or documents necessary to monitor compliance with the order during the period of the order's effective dates. Provision IX provides the effective dates of the order, including that, with exceptions, the order will terminate in 20 years.

The purpose of this analysis is to facilitate public comment on the proposed order. It is not intended to constitute an official interpretation of the complaint or proposed order, or to modify in any way the proposed order's terms.

By direction of the Commission.
Joel Christie,
Acting Secretary.

[FR Doc. 2025-07617 Filed 5-1-25; 8:45 am]

BILLING CODE 6750-01-P